ENVIRONMENTAL PROTECTION AGENCY

[OPP-2005-0057; FRL-7701-3]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by September 6, 2005, orders will be issued canceling these registrations. The Agency will consider withdrawal requests postmarked no later than September 6, 2005.

FOR FURTHER INFORMATION CONTACT: Robert Schultz, Information Resources and Services Division (7502C), Office of Pesticide Programs, Environmental Protection Agency, 1200 Pennsylvania Ave., NW., Washington, DC 20460-0001; telephone number: (703) 308-8186; e-mail address:schultz.robert@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2005-0057. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 234 pesticide products registered under section 3 or 24(c) of FIFRA. These registrations are listed in sequence by registration number (or company number and 24(c) number) in Table 1 of this unit:

Table 1.—Registrations With Pending Requests for Cancellation
Registration no. | Product Name | Chemical Name
000004-00165 | Bonide Methoxychlor 25% E Insecticide | Methoxychlor
000004-00184 | Bonide Bulb Dust | Methoxychlor
|  | Thiram
000004-00361 | Bonide Oftanol Grub Beater | Isofenphos
000016-00111 | Dragon Dipel Dust | Bacillus thuringiensis subsp. kurstaki
000016-00171 | Dragon Systemic Rose & Flower Care | Disulfoton
000070-00271 | Rigo Turf Saver Granular Insecticide | Isofenphos
000099-00083 | Watkins Toilet Bowl Cleanser | Hydrochloric acid
|  | Alkyl* dimethyl benzyl ammonium chloride *(50%C14, 40%C12, 10%C16)
000100-00890 | Mertect LSP Fungicide | Thiabendazole
000100-01155 | Impasse Premi Pel | lambda-Cyhalothrin
000100 CO-00-0008 | Dividend XL | D-Alanine, N-(2,6-dimethylphenyl)-N-(methoxyacetyl)-, methyl ester
|  | Difenoconazole
000100 ID-00-0001 | Mertect LSP Fungicide | Thiabendazole
000100 ID-00-0002 | Mertect LSP Fungicide | Thiabendazole
000100 MT-03-0009 | Mertect LSP Fungicide | Thiabendazole
000100 ND-01-0013 | Mertect LSP Fungicide | Thiabendazole
000100 NE-02-0002 | Mertect LSP Fungicide | Thiabendazole
000100 OR-00-0012 | Orbit Fungicide | Propiconazole
000100 OR-00-0014 | Fulfill | 1,2,4-Triazin-3(2H)-one, 4,5-dihydro-6-methyl-4-(3-pyridinylmethylene)amino-, (E)-
000100 OR-00-0015 | Fulfill | 1,2,4-Triazin-3(2H)-one, 4,5-dihydro-6-methyl-4-(3-pyridinylmethylene)amino-, (E)-
000100 OR-01-0011 | Cyclone Concentrate/Gramoxone Max | Gas cartRidge (as a device for burrowing animal control)
|  | Paraquat dichloride
000100 OR-98-0015 | Caparol 4L Herbicide | Prometryn
000100 OR-99-0050 | Dual Magnum Herbicide | S-Metolachlor
000100 WA-00-0027 | Diquat Herbicide | 6,7-Dihydrodipyrido(1,2-a:2',1'-c)pyrazinediium dibromide
000100 WA-01-0011 | Cyclone Concentrate/Gramoxone Max | Paraquat dichloride
000100 WA-01-0013 | Cyclone Concentrate/Gramoxone Max | Paraquat dichloride
000100 WA-01-0014 | Cyclone Concentrate/Gramoxone Max | Paraquat dichloride
000100 WA-04-0014 | Gramoxone Max Herbicide | Paraquat dichloride
000100 WA-95-0028 | Fusilade DX | Propanoic acid, 2-(4-((5-(trifluoromethyl)-2-pyridinyl)oxy)phenoxy)-, butyl ester, (R)-
000100 WA-95-0029 | Fusilade DX | Propanoic acid, 2-(4-((5-(trifluoromethyl)-2-pyridinyl)oxy)phenoxy)-, butyl ester, (R)-
000100 WA-98-0031 | Fusilade DX Herbicide | Propanoic acid, 2-(4-((5-(trifluoromethyl)-2-pyridinyl)oxy)phenoxy)-, butyl ester, (R)-
000100 WA-99-0006 | Warrior T Insecticide | lambda-Cyhalothrin
000100 WA-99-0012 | Mertect LSP Fungicide | Thiabendazole
000100 WA-99-0013 | Mertect LSP Fungicide | Thiabendazole
000228-00415 | Riverdale Tipa-D 4 Herbicide | 2,4-D, triisopropanolamine salt
000239-02134 | Ortho Systemic Rose & Flower Care 8-12-4 | Disulfoton
000239-02618 | Ortho Atrazine Plus St. Augustine Lawn Weeder | Atrazine
000241-00281 | Prowl MC-60 Herbicide | Pendimethalin
000241-00284 | Prowl WP Herbicide | Pendimethalin
000241-00353 | Contour Herbicide | Atrazine
|  | Ammonium salt of (+/-)-2-(4,5-dihydro-4-methyl-4-(1-methylethyl)-5-oxo-1H-imidazol-2-yl)-5-e
000264-00576 | Icon 80 WG Insecticide | Fipronil
000264-00577 | Icon 6.2 FS | Fipronil
000264-00580 | Icon 6.2SC Insecticide | Fipronil
000264-00625 | Ovasyn | Amitraz
000264-00668 | Liberty ATZ Herbicide | Atrazine
|  | Glufosinate
000264-00769 | Axiom AT | Atrazine
|  | Metribuzin
|  | Flufenacet
000264 AZ-85-0007 | Di-Syston 8 | Disulfoton
000264 OR-82-0049 | Temik 15 G Aldicarb Pesticide | Aldicarb
000264 SD-00-0003 | Axiom AT | Atrazine
|  | Metribuzin
|  | Flufenacet
000264 TX-00-0008 | Aztec 2.1% G | Cyfluthrin
|  | Phostebupirim
000264 TX-97-0002 | Aztec 2.1% Granular | Cyfluthrin
|  | Phostebupirim
000264 WA-00-0023 | Phaser 3EC Insecticide | Endosulfan
000264 WA-00-0028 | Carzol SP Miticide/insecticide In Water Soluble Package | Formetanate hydrochloride
000264 WA-87-0008 | Sencor Df 75% Dry Flowable Herbicide | Metribuzin
000264 WA-93-0020 | Bayleton 50% Wettable Powder | Triadimefon
000279 IL-98-0002 | Furadan 4F Insecticide/Nematicide | Carbofuran
000279 KY-01-0001 | Pounce 3.2 EC Insecticide | Permethrin
000279 WA-04-0002 | Spartan Herbicide | Sulfentrazone
000352 WA-02-0005 | Oust XP Herbicide | Sulfometuron
000400-00411 | Terraclor 6.5% Plus Di-Syston 6.5% Granular | Disulfoton
|  | Quintozene
000400 WA-97-0010 | Comite Agricultural Miticide | Propargite
000432-00798 | Turbocide with SBP-1382 Insecticide | Resmethrin
000432-01287 | Di-Syston 68% Concentrate | Disulfoton
000524-00490 | MON-8413 Herbicide | Acetochlor
000524-00493 | MON 58420 Herbicide | Atrazine
|  | Glyphosate-isopropylammonium
|  | Acetochlor
000524-00510 | MON 78102 Herbicide | Atrazine
|  | Glyphosate-isopropylammonium
|  | Acetochlor
000524-00513 | MON 78103 Herbicide | Glyphosate-isopropylammonium
|  | Acetochlor
000524 WA-02-0021 | Roundup Custom Herbicide | Glyphosate-isopropylammonium
000534-00097 | FS Atrazine 4L Herbicide | Atrazine
000538-00225 | Grub Control | Isofenphos
000554-00142 | DB-Green | Lindane
|  | Maneb
000655-00456 | Prentox Diazinon 50W Insecticide | Diazinon
000655-00459 | Prentox Diazinon AG500 Insecticide | Diazinon
000655 HI-90-0007 | Prentox Diazinon AG500 | Diazinon
000675-00015 | Lehn & Fink Instrument Germicide | 2-Benzyl-4-chlorophenol
|  | o-Phenylphenol
000769-00674 | SMPC Industrial Roach & Ant Spray | Propoxur
000769-00761 | B-Gone Industrial & Household Residual Insecticide | Propoxur
000769-00792 | Superior B Gone | Propoxur
000769-00807 | Superior B-Gone Concentrate | Propoxur
000769-00817 | Propoxur 2% Bait Insecticide | Propoxur
000769-00822 | TRAC Oftanol Insecticide 1.5% Granular | Isofenphos
000769-00823 | Max-Tox 151 | Propoxur
000769-00830 | SMCP 24-4-12 Fertilizer with Oftanol | Isofenphos
000769-00917 | Science Household Insect Bomb | Propoxur
000769-00929 | Wasp + Hornet Jet Spray | Propoxur
|  | 4,7-Methano-1H-isoindole-1,3(2H)-dione, 2-(2-ethylhexyl)-3a,4,7,7a-tetrahydro-
|  | Piperonyl butoxide
|  | Pyrethrins
000769-00935 | Wasp and Hornet I | Propoxur
|  | Piperonyl butoxide
|  | Pyrethrins
000769-00943 | Turfic Weeder-Feeder for St. Augustine Grass | Atrazine
001021-01419 | Multicide Intermediate 2208 | Tetramethrin
|  | Phenothrin
001021-01460 | Multicide Pressurized Spray, F-2269 | Phenothrin
001381-00159 | Wilfarm Atrazine 90DF | Atrazine
001381-00162 | Agrosol T Flowable Systemic Soybean Seed Treatment | Thiabendazole
|  | Thiram
001381-00163 | Agrosol Pour-On Systemic Soybean Seed Treatment | Thiabendazole
|  | Thiram
001381-00165 | Agrox Premiere | Lindane
|  | Diazinon
|  | Captan
|  | Metalaxyl
001381-00169 | Granox Plus | Maneb
|  | Thiabendazole
001381-00186 | Prozine 4L | Atrazine
001677-00150 | Pennsan NR | Phosphoric acid
|  | Dodecylbenzenesulfonic acid
002935-00388 | Diazinon 4 Spray | Diazinon
002935 WA-92-0045 | Wilbur-Ellis Diazinon 4 Spray | Diazinon
005011-00060 | Formula GH-18 | Naled
005481-00225 | Technical Lindane | Lindane
005481-00264 | Royal Brand Polyram 3.5 Dust Fungicide | Metiram
005481-00415 | PCNB Disulfoton Granules 6.5-6.5 | Disulfoton
|  | Quintozene
005481 WA-97-0015 | Vapam HL Soil Fumigant | Metam-sodium
005887-00065 | Black Leaf Giant Roach Traps Kills Roaches | Propoxur
005887-00074 | Blackleaf Wasp & Hornet Spray Bomb | Propoxur
|  | 4,7-Methano-1H-isoindole-1,3(2H)-dione, 2-(2-ethylhexyl)-3a,4,7,7a-tetrahydro-
|  | Piperonyl butoxide
|  | Pyrethrins
005887-00076 | Black Leaf Roach and Ant Killer | Propoxur
|  | 4,7-Methano-1H-isoindole-1,3(2H)-dione, 2-(2-ethylhexyl)-3a,4,7,7a-tetrahydro-
|  | Piperonyl butoxide
|  | Pyrethrins
007501-00181 | Storcide E.C. | Chlorpyrifos-methyl
|  | Cyfluthrin
007969-00070 | Polyram 80 WP Fungicide | Metiram
008660-00012 | Herbicide Granules Formula A | Atrazine
008660-00018 | Sta-Green St. Augustine & Centipede Weed | Atrazine
008660-00032 | Vertagreen Fertilizer for Professional Use with Atrazin | Atrazine
008660-00041 | Vertagreen Weed and Feed 20-3-5 | Atrazine
008660-00125 | Vertagreen Systemic Rose & Flower Care | Disulfoton
008660-00187 | Hall's Weed and Feed for St. Augustine | Atrazine
008660-00190 | Holiday Flower Bed Weed Control | Trifluralin
008660-00191 | Holiday Systemic 2 In 1 Rose Care | Disulfoton
008660-00204 | Koos Green Turf Weed & Feed 20-4-6 | Atrazine
008660-00207 | Nature's Best Brand Lawn Weed and Feed | Trifluralin
|  | Benfluralin
008660-00223 | Park Ridge 20 Weed & Feed for St. Augustine Grass | Atrazine
008660-00224 | Park Ridge Weed & Feed for St. Augustine Grasses | Atrazine
008660-00245 | Vigro Weed Control & Lawn Fertilizer | Atrazine
009404-00072 | St. Augustine Lawn Weed Killer (40.8% Flowable Atrazine | Atrazine
009779-00210 | Diazinon 4AG | Diazinon
009779-00254 | Riverside Atrazine 80W | Atrazine
009779-00255 | Atrazine 4l | Atrazine
009779-00348 | Moxy + Atrazine | Bromoxynil octanoate
|  | Atrazine
009779-00359 | Magic Carpet Fertilizer with Atrazine 0.92% | Atrazine
009779-00360 | Magic Carpet Fertilizer with Atrazine 0.76% | Atrazine
010163-00163 | Gowan Diazinon 50 WSB | Diazinon
010163-00169 | Imidan 70-WP Agricultural Insecticide | Phosmet
010163-00172 | Imidan Technical Organophosphorus Insecticide | Phosmet
010163-00175 | Imidan 50-WSB | Phosmet
010163-00184 | Imidan 70-WSB | Phosmet
010163-00215 | Imidan 2.5-EC | Phosmet
010163-00219 | Metasystox-R 50% Concentrate | Oxydemeton-methyl
010163-00220 | Metasystox-R Spray Concentrate | Oxydemeton-methyl
010163-00241 | Gowan Diazinon 5F | Diazinon
010163 CA-94-0027 | Gowan Diazinon 50 WSB | Diazinon
010163 MT-96-0002 | Metasystox-R Spray Concentrate | Oxydemeton-methyl
010163 OR-01-0009 | Savey 2E | Hexythiazox
010163 OR-94-0017 | Botran 75 W | Dicloran
010163 WA-01-0028 | Imidan 70-WP Agricultural Insecticide | Phosmet
011474-00055 | Sungro Combo Water Base | Chlorpyrifos
|  | Piperonyl butoxide
|  | Pyrethrins
011474-00066 | Sungro Dursbo | Chlorpyrifos
|  | Piperonyl butoxide
|  | Pyrethrins
011715-00347 | Security Brand Purge 2 Lawn Weed Killer | Atrazine
019713-00145 | Drexel D-264 Plus Captan Seed Protectant | Diazinon
|  | Captan
019713-00262 | Drexel 25% Lindane Seed Treater | Lindane
019713-00375 | Drexel Atrazine Technical II | Atrazine
019713-00412 | Drexel Metolachlor Technical | Metolachlor
019713 CA-97-0035 | Drexel Diazinon Insecticide | Diazinon
019713 OR-95-0032 | Ida, Inc. Diuron 80W | Diuron
028293-00239 | Unicorn Diazinon 14G Granular Insecticide | Diazinon
028293-00272 | Unicorn 1.5% Granular | Isofenphos
032802-00019 | Dursban Insecticide 0.7 Plus Fertilizer | Chlorpyrifos
032802-00020 | Dursban 1.14 Granular Lawn and Turf Insect Control | Chlorpyrifos
032802-00021 | Dursban 1.14 Plus Lawn Fertilizer | Chlorpyrifos
032802-00022 | Dursban 2.32G | Chlorpyrifos
032802-00039 | Dursban .5 Granules Insecticide | Chlorpyrifos
032802-00049 | Dursban 100 Granules | Chlorpyrifos
034704-00705 | Cotoran Technical | Fluometuron
034704-00822 | Weed and Feed for St. Augustine Grass | Atrazine
034704 CA-90-0004 | Diazinon G-14 | Diazinon
034704 OK-89-0006 | Clean Crop Atrazine 4L Herbicide | Atrazine
042056-00011 | Kernel Guard | Lindane
|  | Diazinon
|  | Captan
042056-00015 | TCI Mancozeb-Lindane Seed Treatment | Lindane
|  | Mancozeb
042056-00016 | TCI Mancozeb-Lindane Ready-To-Use Seed Treatment | Lindane
|  | Mancozeb
042056-00018 | TCI Captan-Diazinon Seed Treatment | Diazinon
|  | Captan
048273-00006 | Marman Paraquat Concentrate | Paraquat dichloride
051036-00009 | Micro Flo Atrazine 80W Herbicide | Atrazine
051036-00070 | Micro Flo Diazinon 14G | Diazinon
051036-00093 | Micro Flo Diazinon 5G AG | Diazinon
051036-00157 | Oftanol 1-5G Insecticide | Isofenphos
051036-00159 | Micro Flo Atrazine 80W Herbicide | Atrazine
051036-00259 | Chlorpyrifos 2.32 Bait | Chlorpyrifos
051036-00320 | Tribufos 6EC | Tribuphos
051036-00324 | Tribufos Technical Defoliant | Tribuphos
051036-00404 | Picloram Acid Technical | Picloram
051036-00414 | Picloram K-Salt Technical | Picloram-potassium
051036-00419 | Picloram Tipa Technical | 2-Pyridinecarboxylic acid, 4-amino-3,5,6-trichloro-, compd. with 1,1',1''-nitrilotris(2-prop
051036 HI-97-0005 | Diazinon 50W | Diazinon
051036 TX-01-0013 | Micro Flo Diazinon 14G | Diazinon
062719-00014 | Dursban 1/2 G Granular | Chlorpyrifos
062719-00035 | Dursban Turf Insecticide | Chlorpyrifos
062719-00038 | Lorsban 50-Sl Wettable Powder | Chlorpyrifos
062719-00039 | Lorsban 50W Wettable Powder | Chlorpyrifos
062719-00054 | Dursban 1-D | Chlorpyrifos
062719-00068 | Dursban 50w | Chlorpyrifos
062719-00167 | Equity | Chlorpyrifos
062719-00239 | Broadstrike*+M | Metolachlor
|  | Flumetsulam
062719-00240 | Broadstrike* SF+M | Metolachlor
|  | Flumetsulam
062719-00255 | Dursban 50W-N In Water Soluble Packets | Chlorpyrifos
062719-00293 | Dursban 75WG | Chlorpyrifos
062719-00295 | Lorsban 30G | Chlorpyrifos
062719-00316 | Dursban* Plus Fertilizer 2 | Chlorpyrifos
062719-00349 | Lentrek 6 | Chlorpyrifos
062719-00350 | XRM-5222 | Chlorpyrifos
062719-00354 | Dursban 30 SEC | Chlorpyrifos
062719-00380 | Lorsban 12.6% | Chlorpyrifos
062719-00382 | Chlorfos 4E Insecticide | Chlorpyrifos
062719-00383 | Chlorfos 15G | Chlorpyrifos
062719 AZ-02-0003 | Goal 2XL Herbicide | Oxyfluorfen
062719 AZ-94-0004 | Lorsban 4E-Hf | Chlorpyrifos
062719 CA-94-0017 | Lorsban 4E-HF | Chlorpyrifos
062719 FL-92-0007 | Lorsban 50W | Chlorpyrifo
062719 ID-86-0017 | Dow Dursban 4E Insecticide | Chlorpyrifos
062719 IN-96-0004 | Goal (r) 2XL Herbicide | Oxyfluorfen
062719 LA-96-0005 | Dursban TC Concentrate | Chlorpyrifos
062719 LA-96-0007 | Equity Termiticide Concentrate | Chlorpyrifos
062719 MI-88-0004 | Kerb(r) 50W Herbicide | Propyzamide
062719 MN-96-0003 | Lorsban 4E-SG | Chlorpyrifos
062719 MS-91-0008 | Equity Termiticide Concentrate | Chlorpyrifos
062719 MS-92-0010 | Dursban TC | Chlorpyrifos
062719 MS-93-0012 | Dursban 4E Insecticide | Chlorpyrifos
062719 MS-96-0008 | Dursban TC Concentrate | Chlorpyrifos
062719 MS-96-0009 | Equity Termiticide Concentrate | Chlorpyrifos
062719 MS-96-0010 | Dursban TC Concentrate | Chlorpyrifos
062719 MS-96-0014 | Dursban TC Concentrate | Chlorpyrifos
062719 ND-95-0006 | Lorsban 4E-SG | Chlorpyrifos
062719 OR-00-0001 | Goal 2XL Herbicide | Oxyfluorfen
062719 SC-96-0003 | Dursban TC Concentrate | Chlorpyrifos
062719 SC-96-0004 | Dursban TC Concentrate | Chlorpyrifos
062719 SC-96-0005 | Equity Termiticide Concentrate | Chlorpyrifos
062719 SD-02-0002 | Goal 2XL Herbicide | Oxyfluorfen
062719 SD-02-0003 | Goal 2XL Herbicide | Oxyfluorfen
062719 TN-90-0007 | Dursban Turf Insecticide | Chlorpyrifos
064864-00046 | Sealbrite Lustre-Dry with Thiabendazole | Thiabendazole
066222-00031 | Cotoran 80W Herbicide | Fluometuron
066222-00069 | Turf!@ EZ | Propanil
066222-00070 | Alachlor Technical | Alachlor
066222-00071 | Shroud Herbicide | Alachlor
066222 OR-01-0026 | Galigan 2E | Oxyfluorfen
066222 OR-99-0004 | Linex 50 DF | Linuron
066330-00019 | Isotox Seed Treater (f) | Lindane
|  | Captan
067760 OR-99-0058 | Cheminova Methyl Parathion 4 EC | Methyl parathion
067837 OR-94-0021 | Omite-CR Agricultural Miticide | Propargite
067837 WA-94-0007 | Omite-CR Agricultural Miticide | Propargite

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2.—Registrants Requesting Voluntary Cancellation
EPA Company no. | Company Name and Address
000004 | Bonide Products, Inc., 6301 Sutliff Rd., Oriska, NY 13424
000016 | Dragon Chemical Corp., 71 Carolyn Blvd, Farmingda, NY 11735/ENT>
000070 | Value Gardens Supply, LLC, D/B/A Garden Value Supply, PO Box 585, St. Jose, MO 64502
000099 | Watkins, Inc., 150 Liberty Street, Wino, MN 55987
000100 | Syngenta Crop Protection, Inc., Attn: Regulatory Affairs, PO Box 18300, Greensbo, NC 274198300
000228 | Nufarm Americas Inc., 1333 Burr Ridge Parkway, Suite 125A, Burr Rid, IL 605270866
000239 | The Ortho Business Group, D/B/A The Scotts Co., Po Box 190, Marysvil, OH 43040
000241 | BASF Corp., PO Box 13528, Research Triangle Pa, NC 277093528
000264 | Bayer Cropscience LP, 2 T.W. Alexander Drive, Research Triangle Pa, NC 27709
000279 | FMC Corp.Agricultural Products Group, 1735 Market St, Philadelph, PA 19103
000352 | E.I. Du Pont De Nemours & Co., Inc., Dupont Crop Protection (S300/427), PO Box 30, Newa, DE 197140030
000400 | Crompton Mfg. Co., Inc., 74 Amity Rd, Betha, CT 065243402
000432 | Bayer Environmental Science, A Business Group of Bayer Cropscience LP, 95 Chestnut Ridge Rd., Montva, NJ 07645
000524 | Monsanto Co, Agent For: Monsanto Co., 1300 I Street, Nw, Suite 450 E., Washingt, DC 20005
000534 | Growmark Inc., 1701 Towanda Ave, Bloomingt, IL 61701
000538 | Scotts Co., The, 14111 Scottslawn Rd, Marysvil, OH 43041
000554 | Agsco Inc., PO Box 13458, Grand For, ND 582083458
000655 | Prentiss Inc., C.B. 2000, Floral Pa, NY 110012000
000675 | Reckitt Benckiser Inc., Morris Corporate Center Iv, PO Box 0225, Parsippa, NJ 070540225
000769 | Value Gardens Supply, LLC, D/b/a Value Garden Supply, PO Box 585, St. Jose, MO 64502
001021 | Mclaughlin Gormley King Co, 8810 Tenth Ave North, Minneapol, MN 554274372
001381 | Agriliance, LLC, PO Box 64089, St. Pa, MN 551640089
001677 | Ecolab Inc., 370 Wabasha St. Ecolab Center, St Pa, MN 55102
002935 | Wilbur Ellis Co., PO Box 1286, Fres, CA 93715
005011 | Aire-Mate Inc., PO Box 406, Westfie, IN 46074
005481 | Amvac Chemical Corp., Attn: Jon C. Wood, 4695 Macarthur Ct., Suite 1250, Newport Bea, CA 926601706
005887 | Value Gardens Supply, LLC, D/B/A Value Garden Supply, Po Box 585, St. Jose, MO 64502
007501 | Gustafson LLC, PO Box 660065, Dall, TX 75266
007969 | BASF Corp., Agricultural Products, PO Box 13528, Research Triangle Pa, NC 277093528
008660 | Sylorr Plant Corp., PO Box 142642, St. Lou, MO 631140642
009404 | H.R. Mclane, Inc., Agent For: Sunniland Corp., 7210 Red Rd., Suite 206A, Mia, FL 33143
009779 | D. O'Shaughnessy Consulting Inc., Agent For: Agriliance, LLC, 21 Birch Parkway, Spar, NJ 07871
010163 | Gowan Co., PO Box 5569, Yu, AZ 853665569
011474 | Sungro Chemicals, Inc., PO Box 24632, Los Angel, CA 90024
011715 | Speer Products Inc., 4242 B.F. Goodrich Blvd., Memph, TN 381810993
019713 | Drexel Chemical Co., PO Box 13327, Memph, TN 381130327
028293 | Unicorn Laboratories, 12385 Automobile Blvd., Clearwat, FL 33762
032802 | Howard Johnson's Enterprises Inc., 700 W. Virginia St Ste 222, Milwauk, WI 532041548
034704 | Loveland Products, Inc., PO Box 1286, Greel, CO 80632
042056 | Trace Chemicals LLC, 2320 Lakecrest Drive, Pek, IL 615546637
048273 | Nufarm Co., Agent For: Marman USA Inc., 1333 Burr Ridge Parkway #125a, Burr Rid, IL 60527
051036 | Micro-Flo Co. LLC, 530 Oak Ct. Drive, Memph, TN 38117
062719 | Dow Agrosciences LLC, 9330 Zionsville Rd 308/2e225, Indianapol, IN 462681054
064864 | Pace International LLC, 1011 Western Ave. Suite 807, Seatt, WA 98104
066222 | Makhteshim-Agan of North America Inc., 551 Fifth Ave.- Ste 1100, New Yo, NY 10176
066330 | Arvesta Corp., 100 First Street, Suite 1700, San Francis, CA 94105
067760 | Cheminova Inc., 1700 Route 23 - Ste 300, Way, NJ 07470
067837 | U.S. Hop Industry Plant Protection Committee, PO Box 1207, Mox, WA 98936

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before September 6, 2005. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: March 1, 2005.
Kathleen Knox,
Acting Director, Information Resources and Services Division, Office of Pesticide Programs.

[FR Doc. 05-4582 Filed 3-8-05; 8:45 a.m.]

BILLING CODE 6560-50-S